DEPARTMENT OF HEALTH AND HUMAN SERVICES

Centers for Disease Control and Prevention

[60Day-05AL]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation and Assessment of the Effectiveness of Activities Supporting Fire Prevention and Safety—New—National Center for Injury Prevention and Control (NCIPC), Centers for Disease Control and Prevention (CDC).

This project will evaluate the effect of fire safety and prevention education for second grade children and identify program components that contribute to successful outcomes. The fire safety prevention education programs are delivered by fire department personnel and funded by the United States Fire Administration's (USFA) Assistance to Firefighters Grant Program (AFGP). Deaths from fires and burns are the sixth most common cause of unintentional injury-related deaths in the United States with over three-fourths of fire-related deaths and three-fourths of fire-related injuries resulting from house fires. Children are particularly at high risk for injury with residential fire death rates approximately two times that of adult age groups. The prevention programs that are funded by AFGP provide local fire departments with resources to conduct fire safety education for elementary school children. None of these programs has been systematically evaluated to determine impact on fire safety knowledge, skills, and behaviors. The proposed project does not assume a direct link from knowledge, skills, and behaviors to reductions in fire death rates; however, these intermediate outcomes may predispose and enable children to protect themselves from fire-related injury.

Children's knowledge, skills, and behaviors will be studied as a function of time (pre-, immediate post-, and 6 month post-), geographic setting (urban, rural, suburban) and instructional format (classroom, safety trailer, classroom + safety trailer, none). The design used in this study is a 3 × 4 factorial design with repeated measures. A survey will be used to assess children's fire safety knowledge, skills, and behaviors. Information will also be collected from the children's parents on fire safety activities within the home.

Teachers, school administrators, and the fire fighters delivering the program will complete surveys to gather information on messages delivered, props used, and possible additional exposures to fire safety education. Information will also be collected regarding the school and Fire Department personnel's perception of program sustainability and the relationship between the Fire Department and school. The only cost to the respondents is the time involved to complete the survey.

Respondents | Number of respondents | Number of responses/respondent | Average burden/response (in hrs) | Total burden hours
Fire Fighters | 24 | 2 | 15/60 | 12
2nd Grade Children | 1920 | 3 | 20/60 | 1920
Parents of 2nd Grade Children | 1920 | 2 | 10/60 | 640
Teachers of 2nd Grade Children | 96 | 2 | 15/60 | 48
School Administrators | 48 | 1 | 20/60 | 16
Total |  |  |  | 2636

Dated: November 24, 2004.
B. Kathy Skipper,
Acting Director, Management Analysis and Services Office, Centers for Disease Control and Prevention.

[FR Doc. 04-26489 Filed 11-30-04; 8:45 am]

BILLING CODE 4163-18-U